INTERNATIONAL TRADE COMMISSION

[Inv. No. 337-TA-576]

In the Matter of Certain Portable Digital Media Players and Components Thereof; Notice of Commission Decision Not To Review an Initial Determination of the Administrative Law Judge Terminating the Investigation on the Basis of a Binding Term Sheet

AGENCY: U.S. International Trade Commission.

ACTION: Notice.

SUMMARY: Notice is hereby given that the U.S. International Trade Commission has determined not to review the presiding administrative law judge's (“ALJ”) initial determination (“ID”) (Order No. 3) terminating the above-captioned investigation on the basis of a binding term sheet.

FOR FURTHER INFORMATION: Michael Liberman, Esq., Office of the General Counsel, U.S. International Trade Commission, 500 E Street, SW., Washington, DC 20436, telephone 202-205-3152. Copies of the ID and all other nonconfidential documents filed in connection with this investigation are or will be available for inspection during official business hours (8:45 a.m. to 5:15 p.m.) in the Office of the Secretary, U.S. International Trade Commission, 500 E Street, SW., Washington, DC 20436, telephone 202-205-2000. Hearing-impaired persons are advised that information on this matter can be obtained by contacting the Commission's TDD terminal on 202-205-1810. General information concerning the Commission may also be obtained by accessing its Internet server (http://www.usitc.gov). The public record for this investigation may be viewed on the Commission's electronic docket (EDIS) at http://edis.usitc.gov.

SUPPLEMENTARY INFORMATION: On July 6, 2006, the Commission instituted this investigation under section 337 of the Tariff Act of 1930, 19 U.S.C. 1337, based on a complaint, as supplemented and amended, filed by Apple Computer, Inc. of Cupertino, California (“Apple”), alleging a violation of section 337 in the importation, sale for importation, and sale within the United States after importation of certain portable digital media players and components thereof by reason of infringement of claim 25 of U.S. Patent No. 7,046,230; claims 25 and 33 of U.S. Patent No. 5,341,293; claims 36-39, 48, 65, 72-73, and 77-78 of U.S. Patent No. 5,898,434; and claims 1, 24, and 32 of U.S. Patent No. 6,282,646. 71 FR 38421 (July 6, 2006). The complainant named Creative Labs, Inc. of Milpitas, California, and Creative Technology Ltd. of Singapore (collectively, “Creative”) as respondents.

On September 13, 2006, the ALJ issued an ID (Order No. 3) granting a joint motion filed by Apple and Creative seeking termination of this investigation on the basis of a binding term sheet. No party petitioned for review of Order No. 3.

The Commission has determined not to review Order No. 3.

The authority for the Commission's determination is contained in section 337 of the Tariff Act of 1930, as amended (19 U.S.C. 1337), and in § 210.42(h) of the Commission's Rules of Practice and Procedure (19 CFR 210.42(h)).

By order of the Commission.
Issued: October 4, 2006.
Marilyn R. Abbott,
Secretary to the Commission.

[FR Doc. E6-16808 Filed 10-10-06; 8:45 am]

BILLING CODE 7020-02-P